DEPARTMENT OF COMMERCE

National Telecommunications and Information Administration

Wireless Sensor Technology Forum

AGENCY: National Telecommunications and Information Administration, United States Patent and Trademark Office, Technology Administration, U.S. Department of Commerce.

ACTION: Notice of public meeting.

SUMMARY: The Department of Commerce's National Telecommunications and Information Administration (NTIA), United States Patent and Trademark Office (USPTO), and Technology Administration (TA) will host a half-day forum on sensor technologies, entitled “From RFID to Smart Dust: The Expanding Market for Wireless Sensor Technologies.” The first panel will address the future market for sensor technologies by examining a variety of wireless sensor technologies, along with the current and potential future uses by industry and government. Panelists will include researchers, market analysts, and industry and government users. The second panel will address public policy issues facing sensor technologies such as spectrum use, privacy and security, and intellectual property. Panelists will include representatives from companies and government, as well as public policy analysts.

DATES: The Wireless Sensor Technology Forum will be held from 9 a.m. to 1:15 p.m. on Thursday, April 1, 2004.

ADDRESSES: The forum on wireless sensor technologies will be held at the U.S. Department of Commerce, 1401 Constitution Avenue, NW., Auditorium, Washington, DC. (Entrance to the Department of Commerce is on 14th Street between Constitution and Pennsylvania avenues.)

FOR FURTHER INFORMATION CONTACT: Wendy Lader, Office of Policy Analysis and Development, NTIA, at (202) 482-1880, or electronic mail: wlader@ntia.doc.gov. Please direct media inquiries to the Office of Public Affairs, NTIA, at (202) 482-7002.

SUPPLEMENTARY INFORMATION: Sensor applications stand to transform the way business is conducted by yielding greater efficiencies and by reducing costs for the retail, manufacturing, security, shipping and transportation industries by billions of dollars. These industries currently use limited radio frequency identification (RFID) technology in security systems, tollbooths, gasoline pumps, electronic ear tags for livestock, antitheft devices, toys and other products.¹ Market analysts project that sensor technologies will be the next billion-dollar market for the information technology industry, with current RFID projects and services generating $1 billion annually, but potentially growing to $7 billion by 2008.²

¹ See Scientific American, “RFID: A Key to Automating Everything,” pp. 56-65 (January 2004).

² See “RFID: Investing in the Next Multi-Billion Dollar I.T. Opportunity,” Precursor Advisors (January 12, 2003).

According to the RFID Journal, RFID is a generic term used to describe technologies that use radio waves to automatically identify objects and consumer goods and products. RFID uses several methods to identify such items. One such method employs an RFID reader, which can process serial numbers stored on a microchip attached to an antenna (collectively known as the RFID tag). The RFID chip transmits information about the product to the RFID reader via radio waves. ³

³ See RFID Journal, Frequently Asked Questions available at http://www.rfidjournal.com/article/articleview/207.

The Department of Commerce's forum on wireless sensor technologies is being held at a critical time when companies are actively debating the design and implementation of sensor applications worldwide.⁴ By holding this event, the Department of Commerce will increase awareness of sensor technology applications, their potential future economic impact, and public policy issues they may raise.

⁴ In 2003, the Department of Defense and Wal-Mart Stores Inc. each announced requirements for suppliers to include passive-tracking RFID tags on product shipments by 2005. Wal-Mart projects the implementation of RFID tags to generate $8.4 billion in annual cost savings. See “Case Study: Wal-Mart's Race for RFID,” CIO Insight (January 8, 2004).

Public Participation: The panel discussions will be open to the public and press on a first-come, first-served basis. Space is limited. Due to security requirements and to facilitate entry to the Department of Commerce building, attendees must present photo identification and/or a U.S. Government building pass, if applicable, and should arrive at least one-half hour ahead of the panel sessions. The public meeting is physically accessible to people with disabilities. Any member of the public wishing to attend and requiring special services, such as sign language interpretation or other ancillary aids, should contact Wendy Lader at (202) 482-1880 or at wlader@ntia.doc.gov at least three (3) days prior to the meeting.

Dated: February 24, 2004.
Kathy D. Smith,
Chief Counsel, National Telecommunications and Information Administration.

[FR Doc. 04-4420 Filed 2-27-04; 8:45 am]

BILLING CODE 3510-60-P